DEPARTMENT OF TRANSPORTATION

Coast Guard

33 CFR Part 165

[COTP Los Angeles-Long Beach, CA; 00-003]

RIN 2115-AA97

Safety Zone; Middle Harbor-San Pedro Bay, CA

AGENCY: Coast Guard, DOT.

ACTION: Interim rule; request for comments.

SUMMARY: The Coast Guard is establishing a safety zone on the waters of San Pedro Bay, California. The event requiring establishment of this safety zone is the dredging and landfill activities associated with the Port of Long Beach Pier T project. Entry into, transit through or anchoring within the safety zone by vessels other than those engaged in the construction of Pier T is prohibited by the Captain of the Port.

DATES: This rule will be in effect from 12:01 a.m. (PST) on August 1, 2000 until 11:59 p.m. on December 31, 2002. Comments must be received on or before November 6, 2000.

ADDRESSES: This docket for this regulation is maintained, and is available for inspection and copying between the hours of 9 a.m. and 4 p.m., Monday through Friday except federal holidays, at U.S. Coast Guard Marine Safety Office Los Angeles-Long Beach, 165 N. Pico Avenue, Long Beach, CA 90802. Comments may be mailed or hand-delivered to this address.

FOR FURTHER INFORMATION CONTACT: Lieutenant Junior Grade Ken O'Connor, Waterways Management Division, Marine Safety Office/Group Los Angeles-Long Beach, CA at (562) 980-4425/26.

SUPPLEMENTARY INFORMATION:

Regulatory Information

In accordance with 5 U.S.C. 553, there is good cause why a notice of proposed rule making (NPRM) was not published for this regulation and good cause exists for making it effective less than 30 days after, Federal Register publication. Following normal rulemaking procedures could not be done in a timely fashion in that the Coast Guard was not approached concerning the necessity for implementation of a safety zone until late in the Pier T planning process. The actual stipulations of the safety zone were not finalized until a date fewer than 30 days prior to the start of the event.

Although this rule is being published as an interim rule without prior notice, an opportunity for public comment is nevertheless desirable to ensure the rule is both reasonable and workable. Accordingly, persons wishing to comment may do so by submitting written comments to the office listed in ADDRESSES in this preamble. Comments must be received on or before November 6, 2000. Those providing comments should identify the docket number for the regulation (COTP Los Angeles-Long Beach 00-003) and also include their name, address, and reason(s) for each comment presented. Based upon the comments received, the regulation may be changed.

The Coast Guard plans no public meeting. Persons may request a public meeting by writing the Marine Safety Office Los Angeles-Long Beach at the address listed in ADDRESSES in this preamble.

Discussion of Regulation

The construction of the Pier T project is scheduled to begin on May 5, 2000. A safety zone is necessary to safeguard recreational and commercial craft from the dangers of dredging and landfill activities in the area and to prevent interference with other vessels engaged in the dredging operations. This safety zone is necessary to safeguard all personnel and property during the dredging and construction of Pier T. The activities surrounding the dredging and construction pose a direct threat to the safety of surrounding vessels, persons, and property, and create an imminent navigational hazard. This safety zone is necessary to prevent spectators, recreational and commercial craft from the hazards associated with the reconstruction. Persons and vessels, other than those engaged in the construction of Pier T, are prohibited from entering into, transiting through or anchoring within the safety zone unless authorized by the Captain of the Port or a designated representative.

Regulatory Evaluation

This temporary regulation is not a significant regulatory action under section 3(f) of Executive Order 12866 and does not require an assessment of potential costs and benefits under section 6(a)(3) of that order. The location of the dredging and landfill operation is northwest of the old Navy mole in the vicinity of Long Beach Pier “T” which does not currently have much commerical or recreational vessel traffic. It is anticipated that once construction is completed vessel traffic in this area will increase. It has been exempted from review by the Office of Management and Budget under that order. It is not significant under the regulatory policies and procedures of the Department of Transportation (44 FR 11040; February 26, 1979). The Coast Guard expects the economic impact of this regulation to be so minimal that a full Regulatory Evaluation under Paragraph 10(e) of the regulatory policies and procedures of the Department of Transportation is unnecessary.

Collection of Information

This regulation contains no collection of information requirements under the Paperwork Reduction Act (44 U.S.C. 3501 et seq).

Small Entities

Under the Regulatory Flexibility Act (5 U.S.C. 601 et seq), the Coast Guard must consider whether this rule will have a significant economic impact on a substantial number of small entities. “Small entities” may include small businesses and not-for-profit organizations that are not dominant in their respective fields and governmental jurisdictions with populations less than 50,000. For the same reasons set forth in the above Regulatory Evaluation, the Coast Guard certifies under 5 U.S.C. 605(b) that this rule is not expected to have a significant economic impact on any substantial number of entities, regardless of their size.

Assistance for Small Entities

In accordance with § 213(a) of the Small Business Regulatory Enforcement Fairness Act of 1996 (Pub. L. 104-121), the Coast Guard wants to assist small entities in understanding this rule so that they can better evaluate its effects on them and participate in the rulemaking process. If your small business or organization is affected by this rule and you have questions concerning its provisions or options for compliance, please contact Lieutenant Junior Grade Ken O'Connor, Waterways Management Division, Marine Safety Office/Group Los Angeles-Long Beach, CA at (562) 980-4425/26.

Federalism

The Coast Guard has analyzed this regulation under Executive Order 13132, and has determined that this rule does not have implications for federalism under that Order.

Environmental Assessment

The Coast Guard has considered the environmental impact of this temporary regulation and concluded that under Chapter 2.B.2. of Commandant Instruction M16475.1C, Figure 2-1, paragraph (34)(g), it will have no significant environmental impact and it is categorically excluded from further environmental documentation. A Categorical Exclusion Determination and an Environmental Analysis checklist is available for inspection and copying and the docket is to be maintained at the address listed in ADDRESSES in the preamble.

Unfunded Mandates

Under the Unfunded Mandates Reform Act of 1995 (Pub. L. 104-4), the Coast Guard must consider whether this rule will result in an annual expenditure by state, local, and tribal governments, in the aggregate of $100 million (adjusted annually for inflation). If so, the Act requires that a reasonable number of regulatory alternatives be considered, and that from those alternatives, the least costly, most cost-effective, or least burdensome alternative that achieves the objective of the rule be selected.

No state, local, or tribal government entities will be affected by this rule, so this rule will not result in annual or aggregate costs of $100 million or more. Therefore, the Coast Guard is exempt from any further regulatory requirements under the Unfunded Mandates Act.

Taking of Private Property

This rule will not effect a taking of private property or otherwise have taking implications under Executive Order 12630, Governmental Actions and Interference with Constitutionally Protected Property Rights.

Civil Justice Reform

This rule meets applicable standards in section 3(a) and 3(b)(2) of this Order to minimize litigation, eliminate ambiguity, and reduce burden.

Protection of Children

We have analyzed this rule under Executive Order 13045, Protection of Children from Environmental Health Risks and Safety Risks. This Rule is not an economically significant rule and does not concern an environmental risk to safety disproportionately affecting children.

List of Subjects in 33 CFR Part 165

Harbors, Marine safety, Navigation (water), Reporting and recordkeeping requirements, Security measures, Waterways.

Regulation

In consideration of the foregoing, Subpart F of Part 165 of Title 33, Code of Federal Regulations, is amended as follows:

PART 165—[AMENDED]

1. The authority citation for 33 CFR Part 165 continues to read as follows:

Authority: 33 U.S.C. 1231; 50 U.S.C. 191; 33 CFR 1.05-1(g), 6.04-1, 6.04-6 and 160.5; 49 CFR 1.46.

A new § 165.1113 is added to read as follows:

§ 165.1113 Safety Zone: Middle Harbor-San Pedro Channel, CA.

(a) Location. The safety zone is located northwest of the old Navy Mole in the vicinity of Long Beach Pier “T” as defined by the lines connecting the following coordinates: latitude 33°45′21.6″ N, longitude 118°13′38.5″ W, thence to latitude, 33°45′04.1″ N, longitude 118°13′31.2″ W, thence to latitude 33°44′46″ N, longitude 118°14′10.7″ W, thence to latitude 33°44′34.1″ N, longitude 118°14′13″ W, following north-easterly along the shoreline to 33°45′02.4″ N, longitude 118°14′44.7″ W, thence returning to the point of origin.

(b) Effective date. This section is effective from 12:01 a.m. (PST) on August 1, 2000 until 11:59 on December 31, 2002.

(c) Regulations. In accordance with the general regulations in § 165.23 of this Part, entry into, transit through, or anchoring within this safety zone by persons or vessels, other than those engaged in the construction of Pier T, is prohibited unless authorized by the Captain of the Port Los Angeles-Long Beach, CA.

Dated: August 1, 2000.
J.M. Holmes,
Captain, U.S. Coast Guard, Captain of the Port, Los Angeles-Long Beach.

[FR Doc. 00-22844 Filed 9-6-00; 8:45 am]

BILLING CODE 4910-15-U